DEPARTMENT OF ENERGY

Federal Energy Regulatory Commission

[Docket No. ES00-22-000]

Sun River Electric Cooperative, Inc; Notice of Filing

March 23, 2000.

Take notice that on March 20, 2000, Sun River Electric Cooperative, Inc. (SREC) submitted for filing an application pursuant to Section 204 of the Federal Power Act. SREC seeks authorization to borrow money pursuant to a loan agreement with the National Rural Utilities Cooperative Finance Corporation (CFC) in an amount not to exceed $28,500,000. SREC also seeks authorization to borrow under a revolving line of credit in place with CFC in an amount not to exceed $2,000,000.

SREC also requests a waiver of the Commission's competitive bidding and negotiated placement requirements in 18 CFR 34.2.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before April 5, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-7677 Filed 3-28-00; 8:45 am]

BILLING CODE 6717-01-M